DEPARTMENT OF VETERANS AFFAIRS

Special Medical Advisory Group, Notice of Meeting

The Department of Veterans Affairs (VA) gives notice under the Federal Advisory Committee Act, 5 U.S.C. App. 2, that the Special Medical Advisory Group will meet on April 11, 2018 in SimLEARN Center (Building 3) at the Orlando VA Medical Center, 13800 Veterans Way, Orlando, Florida, 32827 from 9:15 a.m. to 3:30 p.m. The meeting is open to the public.

The purpose of the Group is to advise the Secretary of Veterans Affairs and the Under Secretary for Health on the care and treatment of Veterans, and other matters pertinent to the Veterans Health Administration (VHA).

The agenda for the meeting will include discussions on VHA Modernization, VA New Hampshire Vision 2025 Task Force recommendations, and an update on provider payments within Community Care.

Fifteen (15) minutes will be allocated at the end of the meeting for receiving oral presentations from the public—No more than 3 minutes each. Members of the public may submit written statements for review by the Committee to: Department of Veterans Affairs, Office of Under Secretary for Health (10), Veterans Health Administration, 810 Vermont Avenue NW, Washington, DC 20420 or by email at VASMAGDFO@va.gov.

Any member of the public wishing to attend the meeting or seeking additional information should email VASMAGDFO@va.gov or call 202-461-7000. All persons attending the meeting will go through security screening, please bring photo ID.

Dated: March 8, 2018.
LaTonya L. Small,
Federal Advisory Committee Management Officer.

[FR Doc. 2018-04984 Filed 3-12-18; 8:45 am]

BILLING CODE P